NATIONAL SCIENCE FOUNDATION

Proposal Review Panel for Physics; Notice of Meeting

In accordance with the Federal Advisory Committee Act (Pub. L. 92-463, as amended), the National Science Foundation announces the following meeting.

Name: Stony Brook FY11 Site Visit (1208).

Date and Time: Tuesday, November 30, 2010, 1 p.m.-5:20 p.m. Wednesday, December 1, 2010, 8:30 a.m.-4:15 p.m.

Place: Stony Brook—Long Island Campus.

Type of Meeting: Partially Closed.

Contact Person: Dr. Marvin Goldberg, Program Director for Elementary Particle Physics, National Science Foundation, 4201 Wilson Blvd., Arlington, VA 22230. Telephone: (703) 292-7392.

Purpose of Meeting: To provide an evaluation concerning the proposal submitted to the National Science Foundation.

Agenda

Tuesday, Nov. 30

1 p.m. Executive session (Closed)

1:15 p.m. Group Overview (JH)

1:30 p.m. Atlas Overview (JH)

2 p.m. D0 Overview (PG)

2:30 p.m. Outreach (RM)

3:10 p.m. Break

3:20 p.m. Tour

4 p.m. Grannis research

4:40 p.m. Tsybychev research

5:20 p.m. Executive session (Closed)

Wednesday, Dec. 1

8:30 a.m. Executive session (Closed)

9:15 a.m. Rijssenbeek research (video)

9:55 a.m. Schamberger research

10:35 a.m. Break

10:50 a.m. Engelmann research

11:30 a.m. Hobbs research

12:10 p.m. Lunch

1:15 p.m. McCarthy research

2 p.m. Budget and Panel-PI discussion

3 p.m. Break

3:15 p.m. Executive session (Closed)

Reason for Closing: The proposal contains proprietary or confidential material including technical information; financial data, such as salaries; and personal information concerning individuals associated with the proposals. These matters are exempt under 5 U.S.C. 552b(c) and (6) of the Government in the Sunshine Act.

Dated: November 16, 2010.
Susanne Bolton,
Committee Management Officer.

[FR Doc. 2010-29213 Filed 11-18-10; 8:45 am]

BILLING CODE 7555-01-P